DEPARTMENT OF LABOR

Employment and Training Administration

[TA-W-81,929]

Joy Global, Inc., Also Known as Joy Technologies, Inc., Including On-Site Leased Workers From All Seasons Temporaries and Manpower, Franklin, PA; Notice of Affirmative Determination Regarding Application for Reconsideration

By application dated November 8, 2012, the International Association of Machinists and Aerospace Workers, District Lodge No. 98, requested administrative reconsideration of the negative determination regarding workers' eligibility to apply for Trade Adjustment Assistance (TAA) applicable to workers and former workers of Joy Global, Inc., also known as Joy Technologies, Inc., including on-site leased workers from All Seasons Temporaries and Manpower, Franklin, Pennsylvania (Joy Global). The determination was issued on October 16, 2012. The workers' firm is engaged in activities related to the production of mobile underground mining machines and repair components. Workers are not separately identifiable by product.

The initial investigation resulted in a negative determination based on the findings that, with respect to Section 222(a)(2)(A)(i) of the Act, Joy Global has not experienced a decline in the sales or production of mobile underground mining machines and repair components during the relevant period under investigation.

With respect to Section 222(a)(2)(B) of the Act, the investigation revealed that Joy Global did not shift the production of mobile underground mining machines and repair components or a like or directly competitive article to a foreign country or acquire mobile underground mining machines and repair components or a like or directly competitive article from a foreign country. Although workers of Joy Technologies, Inc., Mt. Vernon, Illinois (TA-W-57,700) were eligible to apply for TAA based on a shift in production of mining machinery components to Mexico, the investigation revealed that worker separations at the subject firm were not caused by a shift in production of mobile underground mining machines or repair components to a foreign country.

With respect to Section 222(b)(2) of the Act, the investigation revealed that Joy Global is not a Supplier to a firm that employed a group of workers who received a certification of eligibility under Section 222(a) of the Act, 19 U.S.C. 2272(a) and does not act as a Downstream Producer to a firm (or subdivision, whichever is applicable) that employed a group of workers who received a certification of eligibility under Section 222(a) of the Act, 19 U.S.C. 2272(a).

Finally, the group eligibility requirements under Section 222(e) of the Act, have not been satisfied since the workers' firm has not been publically identified by name by the International Trade Commission as a member of a domestic industry in an investigation resulting in an affirmative finding of serious injury, market disruption, or material injury, or threat thereof.

The request for reconsideration included information regarding a possible shift in production.

The Department has carefully reviewed the request for reconsideration and the existing record, and will conduct further investigation to clarify the subject worker group and to determine if workers have met the eligibility requirements of the Trade Act of 1974, as amended.

Conclusion

After careful review of the application, I conclude that the claim is of sufficient weight to justify reconsideration of the U.S. Department of Labor's prior decision. The application is, therefore, granted.

Signed at Washington, DC, this 6th day of December 2012.
Elliott S. Kushner,
Certifying Officer, Office of Trade Adjustment Assistance.

[FR Doc. 2012-31662 Filed 1-3-13; 8:45 am]

BILLING CODE 4510-FN-P